FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Claims for National Flood Insurance Program.

Type of Information Collection: Reinstatement, with change, of a previously approved collection for which approval has been expired.

OMB Number: 3067-0021.

Form Numbers: 81-40, 81-41, 81-41A, 81-42, 81-42A, 81-43, 81-44, 81-57, 81-58, 81-59, 81-63, 81-96, 81-98.

Abstract: The National Flood Insurance Program (NFIP) is authorized by Public Law (Pub. L.) 90-448 National Flood Insurance Act of 1968 and expanded by Public Law 93-234, Flood Disaster Protection Act of 1973 to provide low-cost federally subsidized flood insurance for existing buildings exposed to flood risks. In return communities must enact and administer construction safeguards to ensure that new construction in the flood plain will be built to eliminate or minimize future flood damage. The forms included in this collection of information provide the information that is necessary for the continued proper performance of the Agency's functions related to indemnifying policyholders for flood damage to their properties.

Affected Public: Individuals and households, Business or other for-profit, Not-for-profits institutions, Farms, Federal government and State, local or tribal governments.

Number of Respondents: 77,634.

Estimated Time per Respondent: 4 hours.

Estimated Total Annual Burden Hours: 310,536.

Frequency of Response: On occasion.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, FEMA Information Collections Officer, Federal Emergency Management Agency, 500 C Street, SW, Room 316, Washington, DC 20472. Telephone number (202) 646-2625, FAX number (202) 646-3524, or email address: muriel.anderson@ fema.gov.

Dated: August 23, 2000.
Reginald Trujillo,
Director, Program Services Division, Operations Support Directorate.

[FR Doc. 00-22534 Filed 8-31-00; 8:45 am]

BILLING CODE 6718-01-P